DEPARTMENT OF TRANSPORTATION

Federal Aviation Administration

14 CFR Part 39

[Docket No. 99-CE-85-AD]

RIN 2120-AA64

Airworthiness Directives; EXTRA Flugzeugbau GmbH Models EA-300, EA-300L, and EA-300S Airplanes

AGENCY: Federal Aviation Administration, DOT.

ACTION: Notice of proposed rulemaking (NPRM).

SUMMARY: This document proposes to adopt a new airworthiness directive (AD) that would apply to certain EXTRA Flugzeugbau GmbH (EXTRA) Models EA-300, EA-300L, and EA-300S airplanes. The proposed AD would require (for all affected airplanes) an inspection of the upper longeron at the horizontal stabilizer attachment for cracks using a fluorescent dye check penetrant method, repair of any cracks found, and modification of the horizontal stabilizer. The proposed AD would require a limit on operation to the Normal category until accomplishment of the initial inspection and modification on airplanes with less than 200 hours time-in-service (TIS). The proposed AD is the result of reports of fatigue cracks at the horizontal stabilizer attachment on the affected airplanes. The actions specified by the proposed AD are intended to detect and correct cracks in the horizontal stabilizer attachment, which could result in structural failure of the aft fuselage with consequent loss of control of the airplane.

DATES: The Federal Aviation Administration (FAA) must receive any comments on this proposed rule on or before October 31, 2001.

ADDRESSES: Submit comments to FAA, Central Region, Office of the Regional Counsel, Attention: Rules Docket No. 99-CE-85-AD, 901 Locust, Room 506, Kansas City, Missouri 64106. You may view any comments at this location between 8 a.m. and 4 p.m., Monday through Friday, except Federal holidays.

You may get service information that applies to this proposed AD from EXTRA Flugzeugbau GmbH, Flugplatz Dinslaken, D-46569 Hünxe, Federal Republic of Germany; telephone: (0 28 58) 91 37-00; facsimile: (0 28 58) 91 37-30. You may also view this information at the Rules Docket at the address above.

FOR FURTHER INFORMATION CONTACT: Karl Schletzbaum, Aerospace Engineer, FAA, Small Airplane Directorate, 901 Locust, Room 301, Kansas City, Missouri 64106; telephone: (816) 329-4146; facsimile: (816) 329-4090.

SUPPLEMENTARY INFORMATION:

Comments Invited

How Do I Comment on This Proposed AD?

The FAA invites comments on this proposed rule. You may submit whatever written data, views, or arguments you choose. You need to include the rule's docket number and submit your comments to the address specified under the caption ADDRESSES. We will consider all comments received on or before the closing date. We may amend this proposed rule in light of comments received. Factual information that supports your ideas and suggestions is extremely helpful in evaluating the effectiveness of this proposed AD action and determining whether we need to take additional rulemaking action.

Are There Any Specific Portions of This Proposed AD I Should Pay Attention to?

FAA specifically invites comments on the overall regulatory, economic, environmental, and energy aspects of this proposed rule that might suggest a need to modify the rule. You may view all comments we receive before and after the closing date of the rule in the Rules Docket. We will file a report in the Rules Docket that summarizes each contact we have with the public that concerns the substantive parts of this proposed AD.

How Can I Be Sure FAA Receives My Comment?

If you want us to acknowledge the receipt of your comments, you must include a self-addressed, stamped postcard. On the postcard, write “Comments to Docket No. 99-CE-85-AD.” We will date stamp and mail the postcard back to you.

Discussion

What Events Have Caused This Proposed AD?

On October 17, 1997, FAA issued a Special Airworthiness Information Bulletin (SAIB) to recommend an inspection of the horizontal stabilizer attachment on EXTRA Models EA-300, EA-300L, and EA-300S airplanes. The SAIB recommended compliance with EXTRA Service Bulletin SB-300-2-95.

The Luftfahrt-Bundesamt (LBA), which is the airworthiness authority for Germany, did not consider the actions of the service bulletin mandatory and consequently did not issue an AD against airplanes on the German register. The FAA also did not issue an AD at this time because the service history did not warrant such action.

Since that time, FAA has received information that indicates fatigue cracks at the horizontal stabilizer attachment are occurring on the above-referenced airplanes. These airplanes are utilized in aerobatic maneuvers and the stress in the area of the horizontal stabilizer can lead to cracks in this area, as well as in the upper longerons and diagonal braces.

What Are the Consequences if the Condition Is Not Corrected?

This condition, if not corrected, could lead to structural failure of the aft fuselage with consequent loss of control of the airplane.

Is There Service Information That Applies to This Subject?

As indicated above, EXTRA Service Bulletin SB-300-2-95 pertains to this subject. EXTRA has since revised Service Bulletin No. 300-2-95 (pages 2-6 at Issue: C, dated July 15, 1998; and pages 1 and 7 through 11 at Issue: D, dated January 30, 2001).

What Action Did LBA Take?

As of the issue date of this NPRM, LBA has not taken AD action on this subject.

The FAA's Determination and an Explanation of the Provisions of the Proposed AD

What Has FAA Decided?

After examining the circumstances and reviewing all available information related to the incidents described above, including the referenced service information, we have determined that:

—The unsafe condition referenced in this document exists or could develop on other EXTRA Models EA-300, EA-300L, and EA-300S airplanes of the same type design registered in the United States; and

—AD action should be taken in order to detect and correct cracks in the horizontal stabilizer attachment, which could result in structural failure of the aft fuselage with consequent loss of control of the airplane.

What Would the Proposed AD Require?

This proposed AD would require:

—For all affected airplanes: an inspection of the upper longeron at the horizontal stabilizer attachment for cracks using a fluorescent dye check penetrant method, repair of any cracks found, and modification of the horizontal stabilizer; and

—On airplanes with less than 200 hours time-in-service (TIS) as of the effective date of the proposed AD: a limit on operation to the Normal category until accomplishment of the initial inspection and modification.

Accomplishment of the actions specified in the proposed AD would be in accordance with the instructions included in the proposed AD and as specified in the applicable service manual.

Cost Impact

How Many Airplanes Would the Proposed AD Impact?

We estimate that the proposed AD affects 55 airplanes in the U.S. registry.

What Would Be the Cost Impact of the Proposed AD on Owners/Operators of the Affected Airplanes?

We estimate the following costs to accomplish the proposed inspection:

Labor cost | Parts cost | Total cost per airplane | Total cost on U.S. operators
24 workhours × $60 per hour = $1,440 | Not Applicable | $1,440 per airplane | $1,440 × 55 airplanes = $79,200.
We estimate the following costs to accomplish the proposed modification:
20 workhours × $60 per hour = $1,200 | Provided at no cost | $1,200 per airplane | $1,200 × 55 airplanes = $66,000.
We estimate the following costs to accomplish any necessary repair or replacement that would be required based on the results of the proposed inspection. We have no way of determining the number of airplanes that may need such repair or replacement:

Labor cost | Parts cost | Total cost per airplane
40 workhours × $60 per hour = $2,400 | Parts provided at no cost | $2,400 per airplane.

Regulatory Impact

Would This Proposed AD Impact Various Entities?

The regulations proposed herein would not have a substantial direct effect on the States, on the relationship between the national government and the States, or on the distribution of power and responsibilities among the various levels of government. Therefore, it is determined that this proposed rule would not have federalism implications under Executive Order 13132.

Would This Proposed AD Involve a Significant Rule or Regulatory Action?

For the reasons discussed above, I certify that this proposed action (1) is not a “significant regulatory action” under Executive Order 12866; (2) is not a “significant rule” under DOT Regulatory Policies and Procedures (44 FR 11034, February 26, 1979); and (3) if promulgated, will not have a significant economic impact, positive or negative, on a substantial number of small entities under the criteria of the Regulatory Flexibility Act. A copy of the draft regulatory evaluation prepared for this action has been placed in the Rules Docket. A copy of it may be obtained by contacting the Rules Docket at the location provided under the caption ADDRESSES.

List of Subjects in 14 CFR Part 39

Air transportation, Aircraft, Aviation safety, Safety.

The Proposed Amendment

Accordingly, under the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new airworthiness directive (AD) to read as follows:

EXTRA Flugzeugbau GMBH: Docket No. 99-CE-85-AD.

(a) What airplanes are affected by this AD? This AD applies to the following airplane models and serial numbers that are certificated in any category:

Model | Serial Nos.
EA-300 | 1 through 62
EA-300L | 1 through 5
EA-300S | 1 through 29

(b) Who must comply with this AD? Anyone who wishes to operate any of the above airplanes must comply with this AD.

(c) What problem does this AD address? The actions specified by this AD are intended to detect and correct cracks in the horizontal stabilizer attachment, which could result in structural failure of the aft fuselage with consequent loss of control of the airplane.

(d) What actions must I accomplish to address this problem? To address this problem, you must accomplish the following:

Actions | Compliance | Procedures
(1) For all affected airplanes, inspect, using a fluorescent dye penetrant method, the upper longeron at the horizontal stabilizer attachment for cracks in the areas depicted in Figure 1 of this AD | Upon accumulating 250 hours time-in-service (TIS) or within the next 50 hours TIS after the effective date of this AD, whichever occurs later | In accordance with Part I of Extra Service Bulletin No. 300-2-95 (pages 2-6 at Issue: C, dated July 15, 1998; and pages 1 and 7 through 11 at Issue: D, dated January 30, 2001). No further action is required by this paragraph if the modification is already accomplished in accordance with Part II of Extra Service Bulletin No. 300-2-95 (all pages at Issue: C, dated July 15, 1998).
(2) For all affected air planes, if no crack(s) is(are) found during the inspection required by this AD, modify the upper longeron at the horizontal stabilizer attachment | Prior to further flight after the inspection required by paragraph (d)(1) of this AD | In accordance with Part II of Extra Service Bulletin No. 300-2-95 (pages 2-6 at Issue: C, dated July 15, 1998; and pages 1 and 7 through 11 at Issue: D, dated January 30, 2001). No further action is required by this paragraph if already accomplished in accordance with Part II of Extra Service Bulletin No. 300-2-95 (all pages at Issue: C, dated July 15, 1998).
(3) For all affected airplanes, if any crack is found during the inspection required by this AD and the crack(s) is(are) in Area A or Area B as depicted in Figure 1 of this AD, accomplish the following: (i) Repair and modify the upper longeron at the horizontal stabilizer attachment; and (ii) Weld the cracks tight during repair. | Prior to further flight after the inspection where any crack is found in Area A or Area B as depicted in Figure 1 of this Ad | In accordance with Part II of Extra Service Bulletin No. 300-2-95, Issue: D, dated January 30, 2001. No further action is required by this paragraph if already accomplished in accordance with Part II of Extra Service Bulletin No. 300-2-95 (all pages at Issue: C, dated July 15, 1998).
(4) For all affected airplanes, if any crack is found during the inspection and the crack(s) is(are) in Area C as depicted in Figure 1 of this AD, accomplish the following: (i) Obtain a repair scheme from the manufacturer; (ii) Incorporate this repair scheme; and (iii) Accomplish any follow-up actions as directed by the FAA. | Prior to further flight after the inspection where any crack is found | In accordance with a repair scheme obtained from EXTRA Flugzeugbau GmbH, Flugplatz Dinslaken, D-46569 Hünxe, Federal Republic of Germany; telephone: (0 28 58) 91 37-00; facsimile: (0 28 58) 91 37-30. Obtain this repair scheme through FAA at the address specified in paragraph (f) of this and AD.
(5) For airplanes with less than 200 hours TIS as of the effective date of this AD, limit operation to the Normal category by accomplishing the following: (i) Fabricate two placards using letters of at least ⅒-inch in height consisting of the following words: “OPERATIONS LIMITED TO NORMAL CATEGORY”; (ii) Install these placards on the airplane instrument panels (one on the front panel and one on the rear panel) next to the airspeed indicators within the pilot's clear view; and (iii) Insert a copy of this AD into the Limitations Section of the Airplane Flight Manual (AFM). | Within the next 50 hours TIS after the effective date of this AD until the inspection and the modification required by this AD are accomplished | Not applicable.
(6) The Owner/operator holding at least a private pilot certificate as authorized by section 43.7 of the Federal Aviation Regulations (14 CFR 43.7) may fabricate and install the placard as required by paragraphs (d)(5)(i) and (d)(5)(ii) of this AD and insert this AD into the Limitations Section of the AFM as required by paragraph (d)(5)(iii) of this AD | Within the next 50 hours TIS after the effective date of this AD until the first inspection and the modification required by this AD are accomplished | Make an entry into the aircraft records showing compliance with this AD in accordance with section 43.9 of the Federal Aviation Regulations (14 CFR and the 43.9).
(7) For all affected Model EA-300S airplanes, modify the fuselage frame underneath the stabilizer attachment | Within the next 200 hours TIS after the effective date of this AD | In accordance with Part III of Extra Service Bulletin No. 300-2-95 (pages 2-6 at Issue: C, dated July 15, 1998; and pages 1 and 7 through 11 at Issue: D, dated January 30, 2001).
(8) For all affected airplanes with less than 200 hours TIS as of the effective date of this AD, the inspection, modification, and repair, as necessary, (as specified in paragraphs (d)(1) through (d0(4) of this AD) may be accomplished instead of the operational limitations of paragraph (d)(5) of this AD | Upon accumulating 250 hours TIS or within the next 50 hours TIS after the effective date of this AD, whichever occurs later | Inspect in accordance with Figure 1 of this AD and Part I of Extra Service Bulletin No. 300-2-95 (pages 2-6 at Issue: C, dated July 15, 1998; and pages 1 and 7 through 11 at Issue: D, dated January 30, 2001). Modify in accordance with Part II of the service bulletin. Repair in accordance with the service bulletin or a repair scheme obtained from the manufacturer, as applicable.

(e) Can I comply with this AD in any other way? You may use an alternative method of compliance or adjust the compliance time if:

(1) Your alternative method of compliance provides an equivalent level of safety; and

(2) The Manager, Small Airplane Directorate, approves your alternative. Submit your request through an FAA Principal Maintenance Inspector, who may add comments and then send it to the Manager, Small Airplane Directorate.

Note 1: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Karl Schletzbaum, Aerospace Engineer, FAA, Small Airplane Directorate, 901 Locust, Room 301, Kansas City, Missouri 64106; telephone: (816) 329-4146; facsimile: (816) 329-4090.

(g) What if I need to fly the airplane to another location to comply with this AD? The FAA can issue a special flight permit under sections 21.197 and 21.199 of the Federal Aviation Regulations (14 CFR 21.197 and 21.199) to operate your airplane to a location where you can accomplish the requirements of this AD.

(h) How do I get copies of the documents referenced in this AD? Direct questions or technical information related to Extra Service Bulletin No. 300-2-95 (pages 2-6 at Issue: C, dated July 15, 1998; and pages 1 and 7 through 11 at Issue: D, dated January 30, 2001) to EXTRA Flugzeugbau GmbH, Flugplatz Dinslaken, D-46569 Hünxe, Federal Republic of Germany; telephone: (0 28 58) 91 37-00; facsimile: (0 28 58) 91 37-30. You may view this service information at FAA, Central Region, Office of the Regional Counsel, 901 Locust, Room 506, Kansas City, Missouri 64106.

Issued in Kansas City, Missouri, on September 18, 2001.
Michael Gallagher,
Manager, Small Airplane Directorate, Aircraft Certification Service.

[FR Doc. 01-24024 Filed 9-25-01; 8:45 am]

BILLING CODE 4910-13-U